DEPARTMENT OF DEFENSE

Department of the Army, Corps of Engineers

Notice of Intent To Prepare a Draft Environmental Impact Statement for the Line 5 Tunnel Project, Mackinac and Emmet Counties, Michigan

AGENCY: U.S. Army Corps of Engineers, DoD.

ACTION: Notice of intent.

SUMMARY: The U.S. Army Corps of Engineers (USACE), Detroit District, is reviewing an application pursuant to section 10 of the Rivers and Harbors Act of 1899 and section 404 of the Clean Water Act for a Department of the Army (DA) permit by Enbridge Energy, Limited Partnership (Enbridge) (File LRE-2010-00463-56-A19) to construct a tunnel (the Line 5 Tunnel Project) that would house a replacement segment of Enbridge's Line 5 pipeline crossing the Straits of Mackinac (Straits) in Lake Michigan. The primary Federal involvement associated with the proposed action is the discharge of dredged or fill material into waters of the United States, and the construction of structures and/or work that may affect navigable waters. Federal authorizations for the proposed project would constitute a “major federal action.” Based on the potential impacts of the proposed project, the USACE intends to prepare an Environmental Impact Statement (EIS) in compliance with the National Environmental Policy Act (NEPA) to render a final decision on the permit application. The USACE is also preparing an Ethnographic/Traditional Cultural Landscape Study as part of the EIS and its responsibilities under section 106 of the National Historic Preservation Act.

DATES: To ensure consideration, all comments regarding the proposed EIS scope should be received by the Detroit District by October 14, 2022.

ADDRESSES: Written comments regarding the proposed EIS scope should be addressed to: Line 5 Tunnel EIS, 16501 Shady Grove Road, P.O. Box 10178, Gaithersburg, MD 20898. Comments may also be submitted electronically at: https://www.Line5TunnelEIS.com. Individuals can also subscribe to receive EIS updates at this website.

FOR FURTHER INFORMATION CONTACT: For information about this project, to be included on the mailing list for future updates and public meeting announcements, or to receive a copy of the Draft EIS when it is issued, visit https://www.Line5TunnelEIS.com or contact Ms. Katie Otanez at the USACE at 313-226-5479.

SUPPLEMENTARY INFORMATION: The USACE, Detroit District, intends to prepare an EIS for the proposed Line 5 Tunnel Project. As part of the DA permit application review, the Detroit District issued a Public Notice on May 15, 2020, and held a Public Hearing on December 7, 2020. The purpose of the notice and hearing was to seek comments and information to better enable the Detroit District to make a reasonable decision on factors affecting the public interest. All comments received to date will be considered by the Detroit District during EIS preparation.

The USACE's decision will be to issue, issue with modification, or deny the DA permit for the proposed action. The EIS will assess the potential social, economic, cultural, and environmental impacts of the proposed project and is intended to be sufficient in scope to address Federal, State, and local requirements, and cultural, environmental, socioeconomic, and Tribal factors related to the proposed action and permit review.

1. Public Involvement: The USACE invites all affected Federal, State, and local agencies, Native American Tribes, other interested parties, and the general public to participate in the NEPA process during development of the EIS. The purpose of the public scoping process is to provide information to the public, identify potentially significant environmental issues for in-depth analysis, serve as a mechanism to solicit agency, Tribal, and public input on alternatives and issues of concern, and ensure full and open participation in scoping for the Draft EIS. To ensure that all of the issues related to this proposed project are addressed, the USACE will conduct public scoping meetings in which agencies, organizations, Tribes, and members of the general public are invited to present comments or suggestions with regard to the range of actions, alternatives, and potential impacts to be considered in the EIS. The USACE invites comments on the proposed scope and content of the EIS from all interested parties.

The USACE will coordinate its review under Section 106 of the National Historic Preservation Act (section 106) with its NEPA process, pursuant to 36 CFR 800.8(a) and will use the EIS scoping process to facilitate consultation under Section 106. The USACE invites all interested parties to provide comments on identification of and potential effects to historic properties during the EIS scoping period. In addition, individuals and organizations with a demonstrated interest in the project may request to participate as a consulting party in the USACE's Section 106 review. The USACE will determine whether to grant such requests.

2. Scoping Meetings: The specific dates, times, and locations of the meetings will be published in press releases and on the USACE's project website: www.Line5TunnelEIS.com.

3. Public Comment Availability: Before including your address, telephone number, email address, or other personal identifying information in your comment, you should be aware that your entire comment—including your personal identifying information—may be made publicly available. While you can ask in your comment that your personal identifying information be withheld from public review, the USACE cannot guarantee that this will occur.

4. Proposed Action: Enbridge's Line 5, in operation since 1953, transports light crude oil, light synthetic crude oil, light sweet crude oil, and natural gas liquids. It supplies domestic and foreign refineries throughout the region that produce products such as gasoline, propane, butanes, diesel, jet fuel, asphalt, and other consumer products. Line 5 extends for 645 miles between Superior, Wisconsin and Sarnia, Ontario. In Michigan, Line 5 crosses the Straits, an approximately 4-mile-long span of water that connects Lake Michigan and Lake Huron. At the point of and for the duration of that crossing, Line 5 currently consists of two 20-inch diameter pipes that rest on or are anchored to the lakebed of the Straits (referred to as the “Line 5 Dual Pipelines” or “Dual Pipelines”). Enbridge is proposing to construct a tunnel underneath the lakebed of the Straits. This tunnel would house a new 30-inch single pipeline for light crude oil, light synthetic crude oil, light sweet crude oil, and natural gas liquids, replacing the existing, dual pipelines crossing the Straits. The tunnel would be constructed and operated by Enbridge and owned, upon the completion of its construction, by the Mackinac Straits Corridor Authority (Authority). In addition to Line 5, the tunnel would provide the potential to accommodate other third-party utilities.

The tunnel is being pursued in accordance with the “Tunnel Agreement” that was executed by Enbridge and the State of Michigan on December 19, 2018. That Agreement was entered in furtherance of Public Act 359, through which the State of Michigan established the Authority and delegated to it the right to acquire, construct, maintain, improve, repair, and manage a utility tunnel across the Straits. The State of Michigan also granted an easement for the proposed tunnel in December 2018. The 1953 easement for the existing dual pipelines crossing of the Straits was revoked on November 13, 2020, by Michigan Governor Whitmer and the Michigan Department of Natural Resources. To date, Enbridge continues to operate Line 5 through the Straits.

The proposed tunnel would cross below the lakebed of the Straits, connecting Point La Barbe in Michigan's Upper Peninsula to McGulpin Point in Michigan's Lower Peninsula, in Mackinac and Emmet Counties, respectively. The distance between these two land points is approximately 3.6 miles and represents the shortest distance between Michigan's Upper and Lower Peninsulas. The tunnel would extend as near as practicable to Enbridge's existing Line 5 North Straits Facility located on the north side of the Straits to an opening point as near as practicable to Enbridge's existing Line 5 Mackinaw Station located on the south side of the Straits.

Except for the entrance points on either side of the Straits, the tunnel would be constructed entirely within the bedrock at depths between 30 feet and 370 feet beneath the lakebed of the Straits. Once complete, the proposed tunnel's inside diameter would be approximately 21 feet. The tunnel would be constructed using a tunnel-boring machine. Pre-cast concrete segmental lining would be installed as the tunnel is constructed, and the space outside the tunnel's concrete lining would be filled with low-permeability grout. The tunnel would provide secondary containment, which is intended to minimize the potential for leakage of fluids from Line 5 into the lakebed or the Straits. Tunnel construction activities would result in removal of approximately 364,000 cubic yards of material from underneath the lakebed. The material would be transported to offsite upland disposal sites.

A shallow launch portal between 400 and 1,000 feet long, 40 to 60 feet wide, and 50 to 80 feet deep would be constructed in uplands within the southern work area (McGulpin Point) and would serve as the entry point for the tunnel-boring machine. A circular shaft 70 feet in diameter and 150 feet deep would be constructed in uplands at the tunnel-boring machine exit point in the northern work area (Point La Barbe). The construction area within the proposed limits of disturbance would be covered in gravel fill. Temporary construction facilities in uplands would include stormwater ponds, spoil storage and management areas, a construction water treatment plant, materials storage and staging areas, office and parking facilities, and a power substation and generator. Permanent facilities constructed in uplands would include stormwater ponds, outfall structures, access drives, and a ventilation building at each end of the tunnel. Remaining areas within the limits of disturbance would be revegetated.

The proposed project would involve placement of fill into a total of approximately 0.13 acre of wetlands, including 0.10 acre of permanent impact and 0.03 acre of temporary impact. The purposes of the fill include: construction of two outfall structures (0.02 acre wetland impact), widening Boulevard Drive to the south and east of the work area for construction equipment access (0.08 acre), and providing access to an upland materials staging area (0.03 acre). After completion of construction, the fill in this 0.03-acre area would be removed, and the area would be seeded with emergent wetland seed mix. Two water intake structures for construction of the tunnel would be installed offshore on each side of the Straits. A discharge pipe would be connected to the southern intake, which would be used intermittently to discharge treated process water into the Straits. Each intake structure would be marked with a surface buoy. The offshore intake structures and discharge pipe would be removed upon completion of tunnel construction.

A new 30-inch pipeline would be installed within the tunnel and connected to the existing portions of the Line 5 pipeline. Upon completion, Enbridge proposes to decommission the existing submerged Line 5 dual pipelines crossing the Straits by purging, cleaning, and abandoning them in place.

5. Location: The proposed project is located within Mackinac County in Michigan's Upper Peninsula and Emmet County within Michigan's Lower Peninsula and includes subsurface crossing of the Straits. The project can be located on the U.S. Geological Survey quadrangle map entitled McGulpin Point, Michigan.

6. Purpose and Need: The purpose of the project is to provide transportation of light crude oil, light synthetic crude oil, light sweet crude oil, and natural gas liquids between Enbridge's existing North Straits Facility and Mackinaw Station, and to approximately maintain the existing capacity of the Line 5 pipeline while minimizing environmental risks.

7. Alternatives: A number of project alternatives will be evaluated in the EIS, including the applicant's proposed alternative and a No Action alternative, which may entail permit denial, withdrawal, or alternatives that do not require a DA permit. Additional alternatives to be considered include alternatives that would avoid, minimize, and compensate for impacts to the environment within the proposed project footprint; alternatives that would avoid, minimize, and compensate for impacts to the environment outside the footprint; alternatives using alternative practices; and other reasonable alternatives that will be developed through the project scoping process, that also meet the identified purpose and need.

8. Scoping Process: The purpose of the public scoping process is to identify relevant issues that will influence the scope of the environmental analysis and EIS alternatives. General concerns in the following categories have been identified to date: potential direct effects to waters of the United States including wetlands; water and sediment quality; aquatic species and fisheries; threatened and endangered species; archaeological and cultural resources, including the Straits as a Traditional Cultural Landscape; Tribal treaty rights and interests; recreation and recreational resources; waste management; aesthetics; noise; air quality; climate change, including greenhouse gas emissions and the social cost of greenhouse gases; public health and safety during construction and operations; navigation; erosion; invasive species; energy needs; environmental justice; needs and welfare of the people; and cumulative effects. All parties who express interest will be given an opportunity to participate in the process.

9. Coordination: The proposed action is being coordinated with Federal, State, regional, and local agencies, and Federally recognized Tribes. As part of the NEPA process, the U.S. Environmental Protection Agency, U.S. Coast Guard, Michigan State Historic Preservation Office (SHPO), Bay Mills Indian Community, Grand Traverse Band of Ottawa and Chippewa Indians, Little River Band of Ottawa Indians, Little Traverse Bay Bands of Odawa Indians, Match‐E‐Be‐Nash‐She‐Wish Band of Pottawatomi Indians, Nottawaseppi Huron Band of the Potawatomi, and Sault Ste. Marie Tribe of Chippewa Indians have agreed to be cooperating agencies in the preparation of the EIS. USACE will consult with the SHPO, Federally recognized Tribes, and other consulting parties to fulfill its responsibilities under Section 106 of the National Historic Preservation Act and will consult with the U.S. Fish and Wildlife Service to fulfill its responsibilities under Section 7 of the Endangered Species Act.

10. Availability of Draft EIS and Public Comment: The Draft EIS is estimated to be available for public review and comment in the fall of 2023. At that time a 60-day public review period will be provided for individuals and agencies to review and comment on the Draft EIS.

Kimberly A. Peeples,
Brigadier General, U.S. Army, Commander, Great Lakes and Ohio River Division.

[FR Doc. 2022-17444 Filed 8-12-22; 8:45 am]

BILLING CODE 3720-58-P